DEPARTMENT OF COMMERCE

Bureau of Industry and Security

Information Systems Technical Advisory Committee; Notice of Open Meeting

The Information Systems Technical Advisory Committee will meet on November 8, 2006, 9 a.m., Room 3884, in the Herbert C. Hoover Building, 14th Street between Constitution and Pennsylvania Avenues, NW., Washington, DC. The Committee advises the Office of the Assistant Secretary for Export Administration on implementation of the Export Administration Regulations (EAR) and provides for continuing review to update the EAR as needed.

Agenda

1. Welcome and Introductions.

2. Remarks and Update from BIS.

3. Graphics Processors Technology.

4. Frequency Standards.

5. Telephony Signaling.

6. Phase Noise.

7. Frequency Synthesizer Assemblies.

8. Practitioner's Guide to APP.

The meeting will be open to the public and a limited number of seats will be available. Reservations are not accepted. To the extent time permits, members of the public may present oral statements to the Committee. Written statements may be submitted at any time before or after the meeting. However, to facilitate distribution of public presentation materials to Committee members, the Committee suggests that presenters forward the public presentation materials to Yvette Springer at Yspringer@bis.doc.gov.

For more information contact Ms. Springer on (202) 482-2813.

Dated: October 19, 2006.
Yvette Springer,
Committee Liaison Officer.

[FR Doc. 06-8887 Filed 10-24-06; 8:45 am]

BILLING CODE 3510-JT-M